DEPARTMENT OF AGRICULTURE

Forest Service

Newspapers Used for Publication of Legal Notice, Comment and Appeal of Decisions for Pacific Northwest Region; Oregon and Washington

AGENCY: Forest Service, USDA.

ACTION: Notice.

SUMMARY: This notice updates the listing of newspapers that will be used by all Ranger Districts, Forests, and the Regional Office of the Pacific Northwest Region to publish legal notices of decision subject to appeal under 36 CFR parts 215 and 217 and to publish notices for public comment subject to the provisions of 36 CFR part 215. The intended effect of this action is to inform interested members of the public which newspapers will be used to publish legal notices for public comment or decisions; thereby allowing the public to receive information of a decision, to provide clear evidence of timely notice, and to achieve consistency in administering the appeals process.

DATES: Publication of legal notices in the listed newspapers will begin with proposals for public comment or decisions subject to appeal that are made on or after October 15, 2003. The list of newspapers will remain in effect until another notice is published in the Federal Register.

FOR FURTHER INFORMATION CONTACT: Jill A. Dufour, Regional Environmental Coordinator, Pacific Northwest Region, 333 SW First Avenue, (P.O. Box 3623), Portland, Oregon 97208, phone: 503-808-2276.

SUPPLEMENTARY INFORMATION: Responsible Officials in the Pacific Northwest Region will give legal notice of decisions that may be subject to appeal under 36 CFR parts 215 and 217 in the following newspapers which are listed by Forest Service administrative units. Where more than one newspaper is listed for any unit, the first newspaper listed is the principle newspapers.

The principle newspaper shall be used to constitute legal evidence that the agency has given timely and constructive notice for comment and for decisions that may be subject to administrative appeal. The timeframe for appeal shall be based on the date of publication of a notice of decision in the principle newspaper.

Pacific Northwest Regional Office

Regional Forester decisions on Oregon National Forests:

The Oregonian, Portland, Oregon

Regional Forester decisions on Washington National Forests:

The Seattle Post-Intelligencer, Seattle, Washington

Columbia River Gorge National Scenic Area Manager decisions:

The Oregonian, Portland, Oregon

Oregon National Forests

Deschutes National Forest

Forest Supervisor decisions

Bend/Fort Rock District Ranger decisions

Crescent District Ranger decisions

Redmond Air Center Manager decisions

The Bulletin, Bend, Oregon

Sister District Ranger decisions—Sisters Nugget, Sisters, Oregon

Fremont-Winema National Forests

Forest Supervisor decisions

Bly District Ranger decisions

Lakeview District Ranger decisions

Paisley District Ranger decisions

Silver Lake District Ranger decisions

Chemult District Ranger decisions

Chiloquin District Ranger decisions

Klamath District Ranger decisions

Herald and News, Klamath Falls, Oregon

Malheur National Forest

Forest Supervisor decisions

Blue Mountain District Ranger decisions

Emigrant Creek District Ranger decisions

Prairie City District Ranger decisions

Blue Mountain Eagle, John Day, Oregon

Mt. Hood National Forest

Forest Supervisor decisions

Clackamas River District Ranger decisions

Zigzag District Ranger decisions

Hood River District Ranger decisions

Barlow District Ranger decisions

The Oregonian, Portland, Oregon

Ochoco National Forest

Forest Supervisor decisions—The Bulletin, Bend, Oregon

Newspapers which may provide additional notice of Forest Supervisor decisions:

Central Oregonian, Prineville, Oregon

Madras Pioneer, Madras, Oregon

Blue Mountain Eagle, John Day, Oregon

The Times-Journal, Condon, Oregon

Crooked River National Grassland Area Manager decisions—The Bulletin, Bend, Oregon

Newspaper which may provide additional notice of Area Manager decisions:

Madras Pioneer, Madras, Oregon

Lookout Mountain District Ranger decisions—The Bulletin, Bend, Oregon

Newspaper which may provide additional notice of District Ranger decisions:

Central Oregonian, Prineville, Oregon

Paulina District Ranger decisions—The Bulletin, Bend, Oregon

Newspapers which may provide additional notice of District Ranger decisions:

Blue Mountain Eagle, John Day, Oregon

The Times-Journal, Condon, Oregon

Rogue River-Siskiyou National Forests

Forest Supervisor (Rogue River) decisions—Mail Tribune, Medford, Oregon

Forest Supervisor (Siskiyou) decisions—Grants Pass Courier, Grants Pass

Applegate District Ranger decisions

Ashland District Ranger decisions

Butte Falls District Ranger decisions

J. Herbert Stone Nursery Managers decisions

Prospect District Ranger decisions

Mail Tribune, Medford, Oregon

Chetco-Gold Beach District Ranger decisions—Curry Coastal Pilot, Brookings, Oregon

Galice-Illinois Valley District Ranger decisions—Grants Pass Courier, Grants Pass, Oregon

Powers District Ranger decisions—The World, Coos Bay, Oregon

Newspaper which may provide additional notice of District Ranger decisions:

Curry County Reporter, Gold Beach, Oregon

Siuslaw National Forest

Forest Supervisor decisions—Corvallis Gazette-Times, Corvallis, Oregon

Hebo District Ranger decisions—Headlight Herald, Tillamook, Oregon

Mapelton District Ranger decisions

Oregon Dunes National Recreation Area Manager decisions

Waldport District Ranger decisions

Register-Guard, Eugene, Oregon

Umatilla National Forest

Forest Supervisor decisions

North Fork John Day District Ranger decisions

Heppner District Ranger decisions

Pomeroy District Ranger decisions

Walla Walla District Ranger decisions

East Oregonian, Pendleton, Oregon

Umpqua National Forest

Forest Supervisor decisions

Cottage Grove District Ranger decisions

Diamond Lake District Ranger decisions

North Umpqua District Ranger decisions

Tiller District Ranger decisions

Dorena Tree Improvement Center Manager decisions

The News Review, Roseburg, Oregon

Wallowa-Whitman National Forest

Forest Supervisor decisions

Baker Office—Whitman Unit decisions

Pine Office—Whitman Unit decisions

Unity Office—Whitman Unit decisions

Baker City Herald, Baker City, Oregon

Hells Canyon National Recreation Area ranger decisions:

Occurring in Oregon—

Wallowa County Chieftain, Enterprise, Oregon

Occurring in Idaho—

Lewiston Morning Tribune, Lewiston, Idaho

La Grande District Ranger decisions—The Observer, La Grande, Oregon

Eagle Cap District Ranger decisions

Wallowa Valley District Ranger decisions

Wallowa County Chieftain, Enterprise, Oregon

Willamette National Forest

Forest Supervisor decisions

Middle Fork District Ranger decisions

McKenzie River District Ranger decisions

Sweet Home District Ranger decisions

Register-Guard, Eugene, Oregon

Detroit District Ranger decisions—Salem Statesman Journal, Salem, Oregon

Washington National Forests

Colville National Forest

Forest Supervisor decisions

Three Rivers District Ranger decisions

Statesman-Examiner, Colville, Washington

Republic District Ranger decisions—Republic News Miner, Republic, Washington

Sullivan Lake District Ranger decisions

Newport District Ranger decisions

Newport Miner, Newport, Washington

Gifford Pinchot National Forest

Forest Supervisor decisions

Mount Adams District Ranger decisions

Mount St. Helens National Volcanic Monument Manager decisions

The Columbian, Vancouver, Washington

Cowlitz Valley District Ranger decisions—The Chronicle, Chehalis, Washington

Mt. Baker-Snoqualmie National Forest

Forest Supervisor decisions—Seattle Post Intelligencer, Seattle, Washington

Mt. Baker District Ranger decisions—Skagit Valley Herald, Mt. Vernon, Washington

Snoqualmie District Ranger decisions (north half of district)—Valley Record, North Bend, Washington

Snoqualmie District Ranger decisions (south half of district)—Enumclaw Courier Herald, Enumclaw, Washington

Darrington District Ranger decisions

Skykomish District Ranger decisions

Everett Herald, Everett, Washington

Okanogan and Wenactchee National Forests

Forest Supervisor decisions—The Wenatchee World, Wenatchee, Washington

Newspaper which may provide additional notice of Forest Supervisor decisions:

The Yakima Herald-Republic, Yakima, Washington

Methow Valley District Ranger decisions—Methow Valley News, Twisp, Washington

Tonasket District Ranger decisions—Wenatchee World, Wenatchee, Washington

Newspaper which may provide additional notice of District Ranger decisions:

Okanogan Valley Gazette-Tribune, Oroville, Washington

Cle Elum District Ranger decisions—Ellensburg Daily Record, Ellensburg, Washington

Newspaper which may provide additional notice of District Ranger decisions:

The Yakima Herald-Republic, Yakima, Washington

Chelan District Ranger decisions

Entiat District Ranger decisions

Lake Wenatchee and Leavenworth District Ranger decisions

The Wenatchee World, Wenatchee, Washington

Naches District Ranger decisions

The Wenatchee World, Wenatchee, Washington

Newspaper which may provide additional notice of District Ranger decisions;

The Yakima Herald-Republic, Yakima, Washington

Olympic National Forest

Forest Supervisor decisions:

The Olympian, Olympia, Washington

Newspapers which may provide additional notice of Forest Supervisor decisions:

Mason County Journal, Shelton, Washington

Peninsula Daily News, Port Angeles, Washington

The Daily World, Aberdeen, Washington

The Forks Forum, Forks, Washington,

Hood Canal District Ranger decisions—Peninsula Daily News, Port Angeles, Washington

Newspaper which may provide additional notice of District Ranger decisions:

Mason County Journal, Shelton, Washington

Pacific District Ranger decisions (south portion of district):

The Daily World, Aberdeen, Washington

Newspapers which may provide additional notice of District Ranger decisions:

Peninsula Daily News, Port Angeles, Washington

The Forks Forum, Forks, Washington

Pacific District Ranger decisions (north portion of district)—Peninsula Daily News, Port Angeles, Washington

Newspapers which may provide additional notice of District Ranger decisions:

The Forks Forum, Forks, Washington

The Daily World, Aberdeen, Washington

Dated: October 3, 2003.
Jim Golden,
Deputy Regional Forester.

[FR Doc. 03-25977 Filed 10-14-03; 8:45 am]

BILLING CODE 3410-11-M